DEPARTMENT OF COMMERCE

U.S. Census Bureau

Proposed Information Collection; Comment Request; The American Community Survey 2014 Content Change

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before February 25, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Cheryl Chambers, U.S. Census Bureau, American Community Survey Office, Washington, DC 20233 by FAX to (301) 763-8070 or via the Internet at ACSO.communications@census.gov.

SUPPLEMENTARY INFORMATION:

I. Abstract

The American Community Survey (ACS) collects detailed population and housing data every month and provides tabulations of these data on a yearly basis. In the past, the long-form data were collected only at the time of each decennial census. After years of development and testing, the ACS began full implementation in households in January 2005 and in Group Quarters (GQs) in January 2006.

The ACS provides more timely information for critical economic planning by governments and the private sector. In the current information-based economy, federal, state, tribal, and local decision makers, as well as private business and non-governmental organizations, need current, reliable, and comparable socioeconomic data to chart the future. In 2006, the ACS began publishing up-to-date profiles of American communities every year, providing policymakers, planners, and service providers in the public and private sectors this information every year-not just every ten years.

The ACS released estimates of population and housing characteristics for geographic areas of all sizes in December 2010. These data products, used by federal agencies and others, are similar in scope to the Summary File 3 tables from Census 2000.

In April 2012, the Department of Health and Human Services requested that OMB and Census consider the addition of a health insurance exchange or premium subsidy question to the ACS. The proposed new question would focus on individuals securing health insurance through the state exchanges, with particular attention to those receiving a premium subsidy. This question would secure information critical to the Department's, the Administration's and states' planning, implementation and evaluation of the role of the health insurance exchanges and the provision of subsidies to eligible individuals and families; as well as provisions of the Patient Protection and Accountable Care Act (ACA) slated for full implementation beginning in

CY 2014. The new question would be in addition to and not a replacement of the current ACS health insurance question. In response to this request, the Census Bureau conducted qualitative testing in 2012 of an additional question related to subsidized premiums for health insurance. Based on the results of that testing, the Census Bureau is considering adding this topic to the ACS questionnaire in 2014.

The Census Bureau is also considering a modification to the ACS question on race for implementation in 2014. Based on testing conducted in parallel with the 2010 Census called the Alternative Questionnaire Experiment, the Census Bureau saw no negative impact in modifying the categories to the race question by removing the term “Negro” from the category “Black, African American, or Negro.” Given this finding, and previous negative feedback provided to the Census Bureau on the inclusion of this term in this category, the Census Bureau is proposing removing this term from this category in the 2014 ACS.

In an effort to enhance the value of data on vacant housing units, the Census Bureau is considering the expansion of the vacancy status categories from which Field Representatives (FRs) can choose as they try to determine the status of vacant housing units. Data users have expressed a strong interest in knowing the composition of the “Other Vacant” category, which can be as high as 30 percent of vacant housing units and which may contain a substantial number of housing units in the so-called “shadow inventory” of housing units that may come on the market at some point for rent or for sale.

II. Method of Collection

The Census Bureau will mail survey instruction materials to households selected for the ACS. The materials will instruct the residents to complete the ACS questionnaire online. For households that do not complete the online questionnaire, Census Bureau staff will then mail out a questionnaire package. For households that complete neither an online form nor a paper form, Census Bureau staff will attempt to conduct interviews via Computer Assisted Telephone Interviewing (CATI). Census Bureau staff will also conduct Computer-Assisted Personal Interviewing (CAPI) for a sub sample of households that do not respond. The Census Bureau conducts a content re-interview from a small sample of respondents.

For most types of GQs, Census Bureau FRs will conduct personal interviews with respondents to complete questionnaires or, if necessary, leave questionnaires and ask respondents to complete. Census Bureau staff collects information from GQ contacts via CAPI. Census Bureau staff will conduct a GQ contact re-interview from a sample of GQs primarily through CATI and a very small percentage via CAPI.

The Census Bureau staff will provide Telephone Questionnaire Assistance (TQA) and if the respondent indicates a desire to complete the survey by telephone, the TQA interviewer conducts the interview.

III. Data

OMB Control Number: 0607-0810.

Form Number(s): ACS-1, ACS-1(SP), ACS-1(PR), ACS-1(PR)SP, ACS-1(GQ), ACS-1(PR)(GQ), GQFQ, ACS CATI (HU), ACS CAPI (HU), ACS RI (HU), and AGQ QI, AGQ RI.

Type of Review: Regular submission.

Affected Public: Individuals, households, and businesses.

Estimated Number of Respondents: We plan to contact the following number of respondents each year: 3,540,000 households; 200,000 persons in group quarters; 20,000 contacts in group quarters; 43,000 households for re-interview; and 1,500 group quarters contacts for re-interview.

Estimated Time per Response: Estimates are 40 minutes per household, 15 minutes per GQ contact, 25 minutes per resident in GQ, and 10 minutes per household or GQ contact in the re-interview samples.

Estimated Total Annual Burden Hours: The estimate is an annual average of

2,337,900 burden hours.

Estimated Total Annual Cost: Except for their time, there is no cost to respondents.

Respondent's Obligation: Mandatory.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 20, 2012.
Glenna Mickelson,
Management Analyst, Office of the Chief Information Officer.

[FR Doc. 2012-31002 Filed 12-21-12; 4:15 pm]

BILLING CODE 3510-07-P